DEPARTMENT OF AGRICULTURE

Submission for OMB Review; Comment Request

May 18, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), oira_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: South American Cactus Moth; Quarantine and Regulations.

OMB Control Number: 0579-0337.

Summary of Collection: Under the Plant Protection Act (7 U.S.C. 7701— et seq.), the Secretary of Agriculture is authorized to prohibit or restrict the importation, entry, or movement of plants and plant pests to prevent the introduction of plant pests into the United States or their dissemination within the United States. The Animal and Plant Health Inspection Service (APHIS) amended the domestic quarantined regulations to establish regulations to restrict the interstate movement of South American cactus moth host material including nursery stock and plant pests for consumption, from infested areas of the United States. This action helps to prevent the artificial spread of South American cactus moth into non-infested areas of the United States.

Need and Use of the Information: APHIS will collect information using Certificate (PPQ 540) and Compliance Agreement (PPQ 519). The certificate is used for domestic movement of treated articles relating to quarantines. Certificates are issued for regulated articles when an inspector or other person authorized to issue certificates finds that the articles have met the conditions of the regulations and may be safely moved interstate without further restrictions. The Compliance agreements are provided for the convenience of persons who are involved in the growing, handling, or moving of regulated articles from quarantined areas. Without this information, APHIS could not provide an effective domestic quarantine program to prevent the artificial spread of the South American cactus moth within the United States.

Description of Respondents: Business or other for-profit; State, Local or Tribal Government.

Number of Respondents: 6.

Frequency of Responses: Reporting: On occasion.

Total Burden Hours: 10.

Ruth Brown,
Departmental Information Collection Clearance Officer.

[FR Doc. 2011-12683 Filed 5-23-11; 8:45 am]

BILLING CODE 3410-34-P